DEPARTMENT OF THE INTERIOR

NATIONAL PARK SERVICE

[NPS-WASO-CONC-0111-6327; 2410-OYC]

Notice of Extension of Concession Contracts

AGENCY: National Park Service, Interior.

ACTION: Public notice.

DATES: Effective Date: January 1, 2011.

FOR FURTHER INFORMATION CONTACT: Jo A. Pendry, Chief, Commercial Services Program, National Park Service, 1201 Eye Street, NW., 11th Floor, Washington, DC 20005, Telephone 202/513-7156.

SUMMARY: Pursuant to 36 CFR 51.23, public notice is hereby given that the National Park Service proposes to extend the following expiring concession contracts for a period of up to 1 (one) year, or until such time as a new contract is executed, whichever occurs sooner.

SUPPLEMENTARY INFORMATION: All of the listed concession authorizations will expire by their terms on or before December 31, 2010. The National Park Service has determined that the proposed short-term extensions are necessary in order to avoid interruption of visitor services and has taken all reasonable and appropriate steps to consider alternatives to avoid such interruption.

Conc ID No. | Concessioner name | Park
NACC001-89 | Golf Course Specialist, Inc | National Capital Parks—Central.
GATE003-98 | Marinas of the Future, Inc | Gateway National Recreation Area.
LAKE017-05 | Black Canyon/Willow Beach River Adventures | Lake Mead National Recreation Area.
PORE003-98 | Golden Gate Council of American Youth Hostels | Point Reyes National Seashore.
BISC002-04 | Biscayne National Underwater Park, Inc | Biscayne National Park.
BISO003-06 | Bobby Gene and Gretta York | Big South Fork National Seashore.
BLRI004-88 | Virginia Peaks of Otter | Blue Ridge Parkway.
BUIS001-06 | Southern Seas, Inc | Buck Island.
EVER004-98 TRF | Concessions Specialists of Florida, Inc | Everglades National Park.
GUIS001-03 | Dudley Food and Beverage | Gulf Islands National Seashore.
JODR002-90 | International Leisure Hosts, Ltd | John D. Rockefeller.

FOR FURTHER INFORMATION CONTACT: Jo A. Pendry, Chief, Commercial Services Program, National Park Service, 1201 Eye Street, NW., 11th Floor, Washington, DC 20005, Telephone 202/513-7156.

Dated: January 10, 2011.
Katherine H. Stevenson,
Assistant Director, Business Services.

[FR Doc. 2011-694 Filed 1-13-11; 8:45 am]

BILLING CODE 4312-53-P